DEPARTMENT OF THE TREASURY

UNITED STATES TRADE REPRESENTATIVE

Notice of Availability of Bilateral Agreement Between the European Union and the United States of America on Prudential Measures Regarding Insurance and Reinsurance

AGENCY: Department of the Treasury, Departmental Offices; United States Trade Representative, Services and Investment.

ACTION: Notice of Availability; Final Legal Text of Bilateral Agreement between the European Union and the United States of America on Prudential Measures Regarding Insurance and Reinsurance (Covered Agreement).

SUMMARY: By this Notice, the Federal Insurance Office of the Department of the Treasury (FIO) and the United States Trade Representative (USTR) announce the availability of the final legal text of a Covered Agreement entered into between the United States and the European Union regarding certain prudential measures with respect to insurance and reinsurance.

ADDRESSES: The Covered Agreement text is available on Treasury's Web site at https://www.treasury.gov/initiatives/fio/reports-and-notices/Pages/default.aspx.

FOR FURTHER INFORMATION CONTACT:

Treasury: Philip J. Goodman, Senior Insurance Regulatory Policy Analyst, Federal Insurance Office, (202) 622-1170; Daniel P. McCarty, Policy Advisor, Federal Insurance Office, (202) 622-5892.

USTR: Sarah C. Ellerman, Director, Services & Investment, (202) 395-9556.

SUPPLEMENTARY INFORMATION: Pursuant to 31 U.S.C. 313-314, the Federal Insurance Office Act of 2010 (FIO Act) authorizes the Secretary of the Treasury (Treasury) and the USTR jointly to negotiate a covered agreement with one or more foreign governments, authorities, or regulatory entities. A covered agreement is a “written bilateral or multilateral agreement regarding prudential measures with respect to the business of insurance or reinsurance . . . .”

The FIO Act provides that a covered agreement may enter into force only if Treasury and USTR jointly submit to the Financial Services and Ways and Means Committees of the House of Representatives and the Banking, Housing, and Urban Affairs and Finance Committees of the Senate a copy of the final legal text of the agreement on a day in which both Houses of Congress are in session and a period of ninety calendar days beginning on the date of submission has expired. On January 13, 2017, Treasury and USTR submitted a copy of the final legal text of the Covered Agreement to these four committees.

Text of the Covered Agreement is available in its entirety on Treasury's Web site at https://www.treasury.gov/initiatives/fio/reports-and-notices/Pages/default.aspx.

Michael T. McRaith,
Director, Federal Insurance Office, U.S. Department of the Treasury.
Sarah C. Ellerman,
Director, Services & Investment, Office of the United States Trade Representative.

[FR Doc. 2017-01638 Filed 1-24-17; 8:45 am]

BILLING CODE 4810-25-P